DEPARTMENT OF THE INTERIOR

Bureau of Land Management

[BLM_OR_FRN_MO 4500176276]

Public Meetings for the John Day-Snake Resource Advisory Council, Oregon

AGENCY: Bureau of Land Management, Interior.

ACTION: Notice of public meetings.

SUMMARY: In accordance with the Federal Land Policy and Management Act of 1976 and the Federal Advisory Committee Act of 1972, the U.S. Department of the Interior, Bureau of Land Management's (BLM's) John Day-Snake Resource Advisory Council (RAC) will meet as follows.

DATES: The John Day-Snake RAC Planning Subcommittee will meet from 6 p.m. to 8 p.m. Pacific time (PT) on Wednesday, January 31, 2024, via the Zoom for Government platform. The full John Day-Snake RAC will meet Wednesday and Thursday, February 28-29, 2024, at the Hotel Condon in Condon, Oregon. The February 28 meeting will be from 9 a.m. to 4:30 p.m. PT and the February 29 meeting will be from 9 a.m. to noon PT in person in Condon, Oregon, with a virtual participation option available.

Thirty-minute public comment periods will be offered at 7:15 p.m. PT on Wednesday, January 31; at 4 p.m. PT on Thursday, February 28; and at 11:30 a.m. PT on Friday, February 29.

ADDRESSES: Final agendas for each meeting and contact information regarding Zoom participation details will be published on the RAC's web page at least 10 days in advance at https://www.blm.gov/get-involved/resource-advisory-council/near-you/oregon-washington/john-day-rac.

Comments to the RAC can be mailed to: BLM Vale District; Attn. Shane DeForest, 100 Oregon St., Vale, OR 97918 or emailed to sdefores@blm.gov.

FOR FURTHER INFORMATION CONTACT: Larisa Bogardus, Public Affairs Specialist, 3100 H. St., Baker City, OR 97814; telephone: 541-523-1407; email: lbogardus@blm.gov. Individuals in the United States who are deaf, blind, hard of hearing, or have a speech disability may dial 711 (TTY, TDD, or TeleBraille) to access telecommunications relay services. Individuals outside the United States should use the relay services offered within their countries to make international calls to the point-of-contact in the United States.

SUPPLEMENTARY INFORMATION: The 15-member John Day-Snake RAC was chartered and appointed by the Secretary of the Interior. Diverse perspectives in the RAC are represented by commodity, conservation, and local interests. The RAC provides advice to BLM and U.S. Forest Service resource managers regarding management plans and proposed resource actions on public lands in the John Day-Snake area. All meetings are open to the public in their entirety. Information to be distributed to the RAC must be provided to its members prior to the start of each meeting.

The January 31 Subcommittee meeting will focus on compiling information and drafting recommendations for consideration and presentation to the full RAC regarding a proposed business plan and fee proposal for the BLM's Prineville District Barr North Campground. Agenda items for the February meeting will include recommendations on the Barr North Campground business plan and related recreation fees. Standing agenda items include management of energy and minerals, timber, rangeland and grazing, commercial and dispersed recreation, wildland fire and fuels, and wild horses and burro management by the Vale or Prineville BLM Districts and the Wallowa-Whitman, Umatilla, Malheur, Ochoco, and Deschutes National Forests; and any other business that may reasonably come before the RAC. The Designated Federal Officer will attend the meeting, take minutes, and publish the minutes on the RAC web page at https://www.blm.gov/get-involved/resource-advisory-council/near-you/oregon-washington/john-day-rac.

The public may send written comments to the subcommittee and RAC in response to material presented (see ADDRESSES).

Please make requests in advance for sign language interpreter services, assistive listening devices, or other reasonable accommodations. We ask that you contact the person listed in the FOR FURTHER INFORMATION CONTACT section of this notice at least seven (7) business days prior to the meeting to allow for sufficient time to process the request. All reasonable accommodation requests are managed on a case-by-case basis.

Before including your address, phone number, email address, or other personal identifying information in your comments, please be aware that your entire comment—including your personal identifying information—may be made publicly available at any time. While you can ask us in your comment to withhold your personal identifying information from public review, we cannot guarantee we will be able to do so.

(Authority: 43 CFR 1784.4-2)

Shane DeForest,
Vale District Manager.

[FR Doc. 2023-27190 Filed 12-11-23; 8:45 am]

BILLING CODE 4331-24-P